DEPARTMENT OF ENERGY

Federal Energy Regulatory Commission

Combined Notice of Filings #1

Take notice that the Commission received the following electric rate filings:

Docket Numbers: ER10-2722-007.

Applicants: Eurus Combine Hills I LLC.

Description: Notice of Non-Material Change in Status of Eurus Combine Hills I LLC.

Filed Date: 1/11/17.

Accession Number: 20170111-5096.

Comments Due: 5 p.m. ET 2/1/17.

Docket Numbers: ER16-1724-001.

Applicants: Paulding Wind Farm III LLC.

Description: Notice of Non-Material Change in Status of Paulding Wind Farm III LLC.

Filed Date: 1/11/17.

Accession Number: 20170111-5075.

Comments Due: 5 p.m. ET 2/1/17.

Docket Numbers: ER17-204-001.

Applicants: Quantum Power Corp.

Description: Tariff Amendment: MBR Tariff Amendment Filing to be effective 1/1/2017.

Filed Date: 1/11/17.

Accession Number: 20170111-5046.

Comments Due: 5 p.m. ET 2/1/17.

Docket Numbers: ER17-771-000.

Applicants: PJM Interconnection, L.L.C.

Description: § 205(d) Rate Filing: Queue Position AB1-098, Original Service Agreement No. 4595 to be effective 12/12/2016.

Filed Date: 1/11/17.

Accession Number: 20170111-5031.

Comments Due: 5 p.m. ET 2/1/17.

Docket Numbers: ER17-772-000.

Applicants: Southwest Power Pool, Inc.

Description: Compliance filing: Order No. 825 Compliance Filing to be effective 5/11/2017.

Filed Date: 1/11/17.

Accession Number: 20170111-5077.

Comments Due: 5 p.m. ET 2/1/17.

Docket Numbers: ER17-773-000.

Applicants: Nevada Power Company.

Description: § 205(d) Rate Filing: Rate Schedule No. 154-Concurrence RS 76-Cancel RS 77 and RS147 to be effective 1/1/2017.

Filed Date: 1/11/17.

Accession Number: 20170111-5083.

Comments Due: 5 p.m. ET 2/1/17.

Docket Numbers: ER17-774-000.

Applicants: ISO New England Inc., New England Power Pool Participants Committee.

Description: Compliance filing: Compliance with Order No. 825; Docket No. RM15-24-000 to be effective 12/1/2017.

Filed Date: 1/11/17.

Accession Number: 20170111-5084.

Comments Due: 5 p.m. ET 2/1/17.

Docket Numbers: ER17-775-000.

Applicants: PJM Interconnection, L.L.C.

Description: Compliance filing: Compliance Filing pursuant to Commission's Final Rule in RM15-24; Order No. 825 to be effective 2/1/2018.

Filed Date: 1/11/17.

Accession Number: 20170111-5108.

Comments Due: 5 p.m. ET 2/1/17.

Docket Numbers: ER17-776-000.

Applicants: San Diego Gas & Electric Company.

Description: Initial rate filing: Certificate of Concurrence in LGIA to be effective 3/6/2017.

Filed Date: 1/11/17.

Accession Number: 20170111-5109.

Comments Due: 5 p.m. ET 2/1/17.

Docket Numbers: ER17-777-000.

Applicants: California Independent System Operator Corporation.

Description: Compliance filing: 2017-01-11 Order No. 825 Compliance to be effective N/A.

Filed Date: 1/11/17.

Accession Number: 20170111-5112.

Comments Due: 5 p.m. ET 2/1/17.

Docket Numbers: ER17-778-000.

Applicants: Midcontinent Independent System Operator, Inc.

Description: Compliance filing: 2017-01-11_Order 825 Price Formation Compliance Filing to be effective 3/1/2018.

Filed Date: 1/11/17.

Accession Number: 20170111-5125.

Comments Due: 5 p.m. ET 2/1/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 11, 2017.
Kimberly D. Bose,
Secretary.

[FR Doc. 2017-00987 Filed 1-17-17; 8:45 am]

BILLING CODE 6717-01-P